DEPARTMENT OF ENERGY

Notice of Intent To Prepare an Environmental Assessment, To Open a Public Scoping Period, and To Conduct a Public Scoping Meeting

AGENCY: Office of Science, Department of Energy.

ACTION: Notice of Intent to Prepare an Environmental Assessment, to open a public scoping period, and to conduct a public scoping meeting for the funding of the construction and operation of the Facility for Rare Isotope Beams at Michigan State University, East Lansing, Michigan.

SUMMARY: The Department of Energy (DOE) announces its intent to prepare an Environmental Assessment (EA) pursuant to the National Environmental Policy Act (NEPA) and to hold a public scoping meeting on the proposed Federal action to fund the construction and operation of the Facility for Rare Isotope Beams (FRIB) on the campus of Michigan State University (MSU) in East Lansing, Michigan. FRIB's design is composed of buildings and/or building additions for a heavy ion/proton accelerator, ancillary laboratories, and support facilities. Construction/operation would occur adjacent to the existing National Superconducting Cyclotron Laboratory (NSCL), which would ultimately be subsumed into FRIB. The EA will identify and assess potential environmental impacts from the Proposed Action and a range of reasonable alternatives so DOE can determine whether to prepare an environmental impact statement (EIS) or issue a finding of no significant impact (FONSI). DOE is also opening a 45-day scoping period to allow the public the opportunity to voice any concerns it might have and to make recommendations about the analytical approach and alternatives. During the scoping period, a public meeting will be held. If at any point during the preparation of the EA DOE determines that it is necessary to prepare an EIS, this scoping process will serve as the scoping process that would normally follow a Notice of Intent to prepare an EIS.

DATES: The public scoping period starts with the publication of this Notice in the Federal Register and will continue until December 11, 2009. DOE will consider all comments received or postmarked by that date in defining the scope of the EA. Comments received or postmarked after that date will be considered to the extent practicable.

DOE invites public comment on the scope of this EA during a public scoping meeting from 6:30 p.m. to 10 p.m. on November 11, 2009 in room 1400 of the Biomedical and Physical Sciences Building (BPS) on the campus of Michigan State University, in East Lansing, Michigan. The scoping meeting will be preceded by an educational open house to be held from 4 p.m. to 6 p.m. at the NSCL, which is adjacent to BPS.

ADDRESSES: Written comments or suggestions on the scope of the EA may be submitted by mail to: FRIB Comments, U.S. Department of Energy, Office of Science, Chicago Office (STS), 9800 South Cass Avenue, Argonne, Illinois 60439; by toll free fax to 1-888-676-3672; by e-mail to frib.comments@ch.doe.gov; or through the EA Web site at http://www.frib.msu.edu/NEPA/.

The Pre-approval Draft EA is expected to be completed in the Spring of 2010. Advance requests for copies can also be made at this time via the methods above. In making your request, please specify whether you would like a paper copy, a compact disc, or notification of its availability on the Internet.

FOR FURTHER INFORMATION CONTACT: For further information on the proposed project, contact Mr. James Hawkins, FRIB Program Manager, U.S. Department of Energy, SC-26.2/Germantown Building, 1000 Independence Avenue, SW., Washington, DC 20585-1290, by telephone at 301-903-3613, or via e-mail at James.Hawkins@science.doe.gov; or Dr. Thomas Glasmacher, FRIB Project Manager, Facility for Rare Isotope Beams, Michigan State University, East Lansing, MI 48824-1321, by telephone at 517-908-7750, or via e-mail at glasmacher@frib.msu.edu. The FRIB project is described in detail at the FRIB Web site, http://www.frib.msu.edu/.

For general information concerning DOE's NEPA process, contact: Peter Siebach, NEPA Compliance Officer, U.S. Department of Energy, Office of Science-Chicago Office (STS), 9800 South Cass Avenue, Argonne, Illinois 60439, by telephone at 603-252-2007, or via e-mail at Peter.Siebach@ch.doe.gov. This Notice of Intent and general information on the DOE NEPA process are available at http://www.gc.energy.gov/NEPA/.

SUPPLEMENTARY INFORMATION:

Background

DOE published a “funding opportunity announcement” on May 20, 2008 seeking applications for the design and establishment of a particle acceleration facility—the FRIB—as a National User Facility. The FRIB would take about a decade to design and build and would cost an estimated $550 million, including cost sharing from MSU. MSU would also make other, non-monetary contributions. The research conducted at FRIB would involve experimentation with intense beams of rare isotopes—short-lived nuclei not normally found on earth—that will enable researchers to address pressing questions in nuclear structure and nuclear astrophysics. Two applications were received. The results of an independent merit review process, as well as an environmental critique, i.e., a comparison of environmental information provided in the applications, were considered by DOE and on December 11, 2008, MSU was selected to design and establish the FRIB. A cooperative agreement with DOE was signed on June 8, 2009, establishing terms and conditions for the work to be performed and ensuring DOE's substantial ongoing involvement in the project.

Purpose and Need for Action

DOE has a mission to advance our basic understanding of science. Scientific research at a FRIB holds the promise to vastly expand our understanding of nuclear astrophysics and nuclear structure. DOE determined that the establishment of the FRIB is a high priority for the future of U.S. nuclear science research. The FRIB establishes a highly sophisticated research laboratory that would produce intense beams of rare isotopes. These beams enable scientists to study the nuclear reactions that power stars and generate the elements found on earth; explore the structure of the nuclei of atoms, which form the core of all matter and the forces that bind them together; test current theories about the fundamental nature of matter; and play a role in developing new nuclear medicines and other societal applications of rare isotopes.

The FRIB concept has undergone numerous studies and assessments within DOE and by independent parties such as the National Research Council of the National Academy of Sciences. These studies—in addition to the joint DOE/National Science Foundation (NSF) Nuclear Science Advisory Committee (NSAC) 2007 Long Range Plan—concluded that such a facility is a vital part of the U.S. nuclear science portfolio, complements existing and planned international efforts, and will provide capabilities unmatched elsewhere.

Proposed Action and Alternatives

DOE and MSU propose to construct and operate the FRIB on approximately 10 acres on its East Lansing, Michigan campus. Its design is composed of buildings and/or building additions for a heavy ion/proton accelerator and ancillary laboratories, support facilities such as a cryomodule, and offices. Construction/operations would occur on campus, adjacent to the existing NSCL, which would ultimately be subsumed into FRIB. The function and scope of operations of FRIB would be similar to NSCL, but FRIB would have substantially more power. The existing NSCL research program relies on a 200 MeV/u coupled cyclotron driver accelerator with 1-2 kW beam power. FRIB would be capable of 200 MeV/u energy for all species, higher energies for lighter ions up to 600 MeV/u for protons with up to 400 kW beam power. A 12 MeV/u reaccelerator is also planned for the facility. Upgrade is possible, but not currently planned.

Most of the structures that would house the accelerator would be thick-walled, reinforced concrete structures. The heavy ion linear accelerator (linac) would be located in a tunnel below grade. A trench (varying between 30 and 75 feet below grade up to 1,800 feet long) would be excavated for the accelerator, necessitating that Bogue Street be closed between Wilson Road and East Shaw Lane two years and portions of East Shaw Lane possibly to be closed for a number of months. The high energy end of the accelerator would join with the existing NSCL building.

The ground where FRIB would be located has been previously disturbed. Like the NSCL, the FRIB would be licensed by the Nuclear Regulatory Commission (NRC). Operation would result in low levels of activation of air and groundwater, which MSU would manage in accordance with NRC license requirements and Environmental Protection Agency regulations. Radiation doses to workers and members of the public from operation of the FRIB would be limited to well below NRC radiation protection standards.

As required by NEPA, the EA will evaluate a No Action alternative to serve as a basis for comparison with the action alternatives. Under the No Action alternative, a FRIB would not be constructed and operated at MSU, although other use of the site could not be ruled out.

Preliminary Identification of Environmental Issues

In the EA, DOE will examine public health and safety effects and environmental impacts from the construction and operation of the proposed FRIB at MSU. This notice is to inform the public of the proposed project and to solicit comments and suggestions for consideration in the preparation of the EA. To help the public frame its comments, this notice contains a preliminary list of potential environmental issues that DOE has tentatively identified for analysis. It is not intended to be comprehensive, nor to imply any predetermination of impacts. These issues include:

1. Impacts from construction accidents;

2. Impacts to both workers and the public from potential exposure to radiation and other hazards under routine operations and credible accident scenarios including natural disasters (e.g., floods, hurricanes, tornadoes, and seismic events);

3. Transportation related impacts;

4. Impacts on surface and groundwater and on water use and quality;

5. Impacts on air and soil;

6. Socioeconomic impacts;

7. Disproportionately high and adverse impacts on minority and low income populations;

8. Impacts on land-use plans, policies and controls, and visual resources;

9. Pollution prevention and waste management practices and activities;

10. Unavoidable adverse impacts and irreversible and irretrievable commitments of resources;

11. Cumulative environmental effects of past, present, and reasonably foreseeable future actions;

12. Status of compliance with all applicable Federal, state and local statutes and regulations, international agreements, and required Federal and State environmental permits, consultations, and notifications; and

13. Impacts of intentional destructive acts, including sabotage and terrorism.

Since the proposed site is adjacent to a currently operating accelerator facility and would involve digging and construction in previously disturbed areas now occupied primarily by parking lots and roads, impacts in several areas are expected to be minor. These impact areas will therefore not be evaluated in detail:

• Impacts on protected, threatened, endangered, or sensitive species of animals or plants, or their critical habitats;

• Impacts on cultural or historic resources; and

• Impacts on floodplains and wetlands.

Scoping Process

DOE invites Federal agencies, State, local and Tribal governments, the general public and international community to participate in the scoping process both to refine the environmental issues to be analyzed and to identify the reasonable range of alternatives. Both oral and written comments will be considered and given equal weight by DOE. The public scoping period starts with the publication of this Notice in the Federal Register and will continue until December 11, 2009. DOE will consider all comments received or postmarked by then in defining the scope of the EA. Comments received or postmarked after that date will be considered to the extent practicable.

The scoping meeting will be held at the location, date, and times indicated above under the DATES section. It will provide interested parties the opportunity to ask questions about the project and comment on the EA scope. A facilitator will establish procedures needed to ensure that everyone who wishes to speak has the opportunity to do so. Should any speaker desire to provide further information that cannot be presented within the designated time, such additional information may be submitted in writing by the date listed in the DATES section. Both oral and written comments will be considered and given equal weight by DOE.

The scoping meeting will be preceded by an educational open house, to be held at the location, date, and times indicated above under the DATES section. During the open house, members of the public can register to provide oral comments at the scoping meeting, provide written comments, view FRIB informational materials, engage project staff, and tour the existing NSCL.

The Pre-approval Draft EA is planned to be issued for state and public review by the Spring of 2010. Persons submitting comments during the scoping process will receive a copy. Others who would like to receive a copy of the draft EA when it is issued should notify DOE per the ADDRESSES section above.

If at any time during preparation of the EA DOE determines that potentially significant environmental impacts might occur with the implementation of the Proposed Action and that an EIS would be needed, DOE will issue a Notice of Intent to prepare an EIS in the Federal Register. In that case, this scoping process will serve as the scoping process that normally would follow a Notice of Intent to prepare an EIS. Accordingly, DOE will consider any comments on the scope of the EA received during this scoping process in preparing such an EIS.

Issued in Washington, DC on October 20, 2009.
Jehanne Gillo,
Director, Facilities and Project Management Division, Office of Nuclear Physics.

[FR Doc. E9-25847 Filed 10-26-09; 8:45 am]

BILLING CODE 6450-01-P